DEPARTMENT OF TRANSPORTATION

Federal Aviation Administration

14 CFR Part 71

[Docket No. FAA-2005-20574; Airspace Docket No. 05-ACE-11]

Establishment of Class E2 Airspace; and Modification of Class E5 Airspace; Chillicothe, MO

AGENCY: Federal Aviation Administration (FAA), DOT.

ACTION: Final rule.

SUMMARY: This rule establishes a Class E surface area at Chillicothe, MO. It also modifies the Class E airspace area extending upward from 700 feet above the surface at Chillicothe, MO.

The effect of this rule is to provide appropriate controlled Class E airspace for aircraft department from and executing instrument approach procedures to Chillicothe Municipal Airport and to segregate aircraft using instrument approach procedures in instrument conditions from aircraft operating in visual conditions.

DATES: Effective 0901 UTC, July 7, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On Tuesday, April 12, 2005, the FAA proposed to amend 14 CFR part 71 to establish a Class E surface area and to modify other Class E airspace at Chillicothe, MO (70 FR 19027). The proposal was to establish a Class E surface area at Chillicothe, MO. It was also to modify the Class E5 airspace area to bring it into compliance with FAA directives. Interested parties were invited to participate in this rulemaking proceeding by submitting written comments on the proposal to the FAA. No comments objecting to the proposal were received.

The Rule

This amendment to Part 71 of the Federal Aviation Regulations (14 CFR part 71) establishes Class E airspace designated as a surface area for an airport at Chillicothe, MO. Controlled airspace extending upward from the surface of the earth is needed to contain aircraft executing instrument approach procedures to Chillicothe Municipal Airport. Weather observations will be provided by an automatic Weather Observing/Reporting System (AWOS) and communications will be direct with Columbia Automated Flight Service Station.

This rule also revises the Class E airspace area extending upward from 700 feet above the surface at Chillicothe, MO. An examination of this Class E airspace area for Chillicothe, MO revealed noncompliance with FAA directives. This corrects identified discrepancies by increasing the area from a 6.4-mile to a 6.9-mile radius of Chillicothe Municipal Airport, defining the extension to the airspace area in terms of the Chillicothe nondirectional radio beacon (NDB), modifying the bearing of the extension, correcting errors in the identified location of the Chillicothe NDB and defining airspace of appropriate dimensions to protect aircraft departing and executing instrument approach procedures to Chillicothe Municipal Airport. The airspace area is brought into compliance with FAA directives. Both areas will be depicted on appropriate aeronautical charts.

Class E airspace areas designated as surface areas are published in Paragraph 6002 of FAA Order 7400.9M, Airspace Designations and Reporting points, dated August 30, 2004, and effective September 16, 2004, which is incorporated by reference in 14 CFR 71.1. Class E airspace areas extending upward from 700 feet or more above the surface of the earth are published in Paragraph 6005 of the same Order. The Class E airspace designations listed in this document will be published subsequently in the Order.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, Section 40103. Under that section, the FAA is charged with prescribing regulations to assign the use of the airspace necessary to ensure the safety of aircraft and the efficient use of airspace. This regulation is within the scope of that authority since it contains aircraft executing instrument approach procedures to Chillicothe Municipal Airport.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9M, dated August 30, 2004, and effective September 16, 2004, is amended as follows:

Paragraph 6002 Class E Airspace Designated as Surface Areas.

* * * * *

ACE MO E2 Chillicothe, MO

Chillicothe Municipal Airport, MO

(Lat. 39°46′56″ N., long. 93°29′44″ W.)

Chillicothe NDB

(Lat. 39°46′38″ N., long. 93°29′39″ W.)

Within a 4.4-mile radius of Chillicothe Municipal Airport and within 2.5 miles each side of the 335° bearing from the Chillicothe NDB extending from the 4.4-mile radius of the airport to 7 miles northwest of the NDB.

* * * * *

Paragraph 6005 Class E airspace areas extending upward from 700 feet or more above the surface of the earth.

* * * * *

ACE MO E5 Chillicothe, MO

Chillicothe Municipal Airport, MO

(Lat. 39°46′56″ N., long. 93°29′44″ W.)

Chillicothe NDB

(Lat. 39°46′38″ N., long. 93°29′39″ W.)

That airspace extending upward from 700 feet above the surface within a 6.9-mile radius of Chillicothe Municipal Airport and within 2.5 miles each side of the 335° bearing from the Chillicothe NDB extending from the 6.9-mile radius of the airport to 7 miles northwest of the NDB.

* * * * *

Issued in Kansas City, MO, on May 17, 2005.
Elizabeth S. Wallis,
Acting Area Director, Western Flight Services Operations.

[FR Doc. 05-10600 Filed 5-26-05; 8:45 am]

BILLING CODE 4910-13-M